GENERAL SERVICES ADMINISTRATION

48 CFR Part 552

[GSAR-TA-2024-01; Docket No. GSA-GSAR-2024-0018; Sequence No. 1]

General Services Administration Acquisition Regulation; Technical Amendments

AGENCY: Office of Acquisition Policy, General Services Administration (GSA).

ACTION: Final rule.

SUMMARY: The General Services Administration (GSA) is issuing this final rule to amend the General Services Administration Acquisition Regulation (GSAR) to make needed editorial changes.

DATES: Effective: September 27, 2024.

FOR FURTHER INFORMATION CONTACT: Mr. Thomas O'Linn, Procurement Analyst, at 202-445-0390 for clarification of content. For information pertaining to status or publication schedules, contact the Regulatory Secretariat Division at 202-501-4755 or GSARegsec@gsa.gov. Please cite GSAR-TA-2024-01.

SUPPLEMENTARY INFORMATION: This final rule amends the General Services Administration Acquisition Regulation (GSAR) to make needed technical amendments to update erroneous clause dates.

List of Subjects in 48 CFR Part 552

Government procurement.

Jeffrey A. Koses
Senior Procurement Executive, Office of Acquisition Policy, Office of Government-wide Policy, General Services Administration.

Therefore, GSA amends 48 CFR part 552 as set forth below:

PART 552—SOLICITATION PROVISIONS AND CONTRACT CLAUSES

1. The authority citation for 48 CFR part 552 continues to read as follows:

Authority: 40 U.S.C. 121(c).

552.219-18 [Amended]

2. Amend section 552.219-18 by removing from the date of the clause “(DATE)” and adding “(MAY 2024)” in its place.

552.238-115 [Amended]

3. Amend section 552.238-115 by removing from the date of the clause “(AUG 24)” and adding “(SEP 2024)” in its place.

552.238-120 [Amended]

4. Amend section 552.238-120 by removing from the date of the clause “(AUG 24)” and adding “(SEP 2024)” in its place.

[FR Doc. 2024-22158 Filed 9-26-24; 8:45 am]

BILLING CODE 6820-61-P